DEPARTMENT OF JUSTICE

Foreign Claims Settlement Commission

AGENCY: Foreign Claims Settlement Commission of the United States, DOJ.

ACTION: Notice.

SUMMARY: This notice announces the completion date of the claims adjudication program referred to the Foreign Claims Settlement Commission (“Commission”) by the Department of State by letter dated November 14, 2012 (the “Iraq I program”), involving claims of United States nationals against the Government of Iraq, as defined below, which were settled under the “Claims Settlement Agreement Between the Government of the United States of America and the Government of the Republic of Iraq,” dated September 2, 2010. By prior notice, the Commission announced the commencement of the Iraq I program on March 26, 2013, with a completion date of March 26, 2014 (78 FR 18365). The completion date specified in this Notice supersedes the previously announced completion date.

DATES: The completion date of the Iraq I program is February 2, 2016. A petition to reopen a claim filed in the Iraq I program must be filed not later than December 4, 2015 (60 days before the completion date). 45 CFR 509.5(l).

FOR FURTHER INFORMATION CONTACT: Brian M. Simkin, Chief Counsel, Foreign Claims Settlement Commission of the United States, 600 E Street NW., Room 6002, Washington, DC 20579, Tel. (202) 616-6975, FAX (202) 616-6993.

Notice of Completion of Claims Adjudication Program

Pursuant to the authority conferred upon the Secretary of State and the Commission under subsection 4(a)(1)(C) of Title I of the International Claims Settlement Act of 1949 (Pub. L. 455, 81st Cong., approved March 10, 1950, as amended by Public Law 105-277, approved October 21, 1998 (22 U.S.C. 1623(a)(1)(C))), the Foreign Claims Settlement Commission hereby gives notice that on February 2, 2016, the Commission will complete the claims adjudication programs referred to the Commission by the Department of State by letter dated November 14, 2012, involving claims of United States nationals against the Government of Iraq, as defined below, which were settled under the “Claims Settlement Agreement Between the Government of the United States of America and the Government of the Republic of Iraq,” dated September 2, 2010.

Brian M. Simkin,
Chief Counsel.

[FR Doc. 2015-29662 Filed 11-19-15; 8:45 am]

BILLING CODE 4410-01-P